FEDERAL COMMUNICATIONS COMMISSION

Notice of Public Information Collection(s) Being Reviewed by the Federal Communications Commission, Comments Requested; Withdrawal

AGENCY: Federal Communications Commission.

ACTION: Notice.

SUMMARY: This document withdraws a notice appearing in the Federal Register on May 11, 2004 (69 FR 26096), requesting public comment on a new collection of information concerning Application for Digital Channel Election for Television Broadcast Station, FCC Form 339, OMB Control Number 3060-XXXX. We inadvertently submitted this document for publication prior to Commission consideration.

FOR FURTHER INFORMATION CONTACT: Barbara Kreisman (202) 418-1600.

SUPPLEMENTARY INFORMATION: This document withdraws a notice requesting public comment on a new collection of information concerning Application for Digital Channel Election for Television Broadcast Station, FCC Form 339, OMB Control Number 3060-XXXX on May 11, 2004 (69 FR 26096).

Federal Communications Commission.
Marlene H. Dortch,
Secretary.

[FR Doc. 04-11320 Filed 5-17-04; 8:45 am]

BILLING CODE 6712-01-P